DEPARTMENT OF COMMERCE

International Trade Administration

[Application No. 84-32A12]

Export Trade Certificate of Review

ACTION: Notice of issuance of an amended Export Trade Certificate of Review to Northwest Fruit Exporters (“NFE”), Application No. 84-32A12.

SUMMARY: The Secretary of Commerce, through the Office of Trade and Economic Analysis (“OTEA”), issued an amended Export Trade Certificate of Review (“Certificate”) to NFE on September 30, 2021.

FOR FURTHER INFORMATION CONTACT: Joseph Flynn, Director, Office of Trade and Economic Analysis, International Trade Administration, by telephone at (202) 482-5131 (this is not a toll-free number) or email at etca@trade.gov.

SUPPLEMENTARY INFORMATION: Title III of the Export Trading Company Act of 1982 (15 U.S.C. 4001 21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Content

NFE's Certificate was amended as follows:

1. Removed the following companies as Members of the Certificate:

• Griggs Farms Packing, LLC, Orondo, WA

• Naumes, Inc., Medford, OR

• Pride Packing Company LLC, Wapato, WA

• Yakima Fresh, Yakima, WA

2. Changed the names of the following Members of the Certificate:

• Auvil Fruit Co., Inc. (Orondo, WA) changed to Auvil Fruit Co., Inc. dba Gee Whiz II, LLC (Orondo, WA)

• Conrad & Adams Fruit L.L.C. (Grandview, WA) changed to River Valley Fruit, LLC (Grandview, WA)

3. Changed the Export Product coverage for one Member:

• E.W. Brandt & Sons, Inc. changed Export Product coverage from fresh apples and fresh sweet cherries to fresh apples (dropped fresh sweet cherries).

NFE's amended Certificate Membership is as follows:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc. dba Gee Whiz II, LLC, Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Chelan Fruit Cooperative, Chelan, WA

12. Chiawana, Inc. dba Columbia Reach Pack, Yakima, WA

13. CMI Orchards LLC, Wenatchee, WA

14. Columbia Fruit Packers, Inc., Wenatchee, WA

15. Columbia Valley Fruit, L.L.C., Yakima, WA

16. Congdon Packing Co. L.L.C., Yakima, WA

17. Cowiche Growers, Inc., Cowiche, WA

18. CPC International Apple Company, Tieton, WA

19. Crane & Crane, Inc., Brewster, WA

20. Custom Apple Packers, Inc., Quincy, and Wenatchee, WA

21. Diamond Fruit Growers, Inc., Odell, OR

22. Domex Superfresh Growers LLC, Yakima, WA

23. Douglas Fruit Company, Inc., Pasco, WA

24. Dovex Export Company, Wenatchee, WA

25. Duckwall Fruit, Odell, OR

26. E. Brown & Sons, Inc., Milton-Freewater, OR

27. Evans Fruit Co., Inc., Yakima, WA

28. E.W. Brandt & Sons, Inc., Parker, WA (for fresh apples only)

29. FirstFruits Farms, LLC, Prescott, WA

30. Frosty Packing Co., LLC, Yakima, WA

31. G&G Orchards, Inc., Yakima, WA

32. Gilbert Orchards, Inc., Yakima, WA

33. Hansen Fruit & Cold Storage Co., Inc., Yakima, WA

34. Henggeler Packing Co., Inc., Fruitland, ID

35. Highland Fruit Growers, Inc., Yakima, WA

36. HoneyBear Growers LLC, Brewster, WA

37. Honey Bear Tree Fruit Co LLC, Wenatchee, WA

38. Hood River Cherry Company, Hood River, OR

39. JackAss Mt. Ranch, Pasco, WA

40. Jenks Bros Cold Storage & Packing, Royal City, WA

41. Kershaw Fruit & Cold Storage, Co., Yakima, WA

42. L & M Companies, Union Gap, WA

43. Legacy Fruit Packers LLC, Wapato, WA

44. Manson Growers Cooperative, Manson, WA

45. Matson Fruit Company, Selah, WA

46. McDougall & Sons, Inc., Wenatchee, WA

47. Monson Fruit Co., Selah, WA

48. Morgan's of Washington dba Double Diamond Fruit, Quincy, WA

49. Northern Fruit Company, Inc., Wenatchee, WA

50. Olympic Fruit Co., Moxee, WA

51. Oneonta Trading Corp., Wenatchee, WA

52. Orchard View Farms, Inc., The Dalles, OR

53. Pacific Coast Cherry Packers, LLC, Yakima, WA

54. Piepel Premium Fruit Packing LLC, East Wenatchee, WA

55. Pine Canyon Growers LLC, Orondo, WA

56. Polehn Farms, Inc., The Dalles, OR

57. Price Cold Storage & Packing Co., Inc., Yakima, WA

58. Quincy Fresh Fruit Co., Quincy, WA

59. Rainier Fruit Company, Selah, WA

60. River Valley Fruit, LLC, Grandview, WA

61. Roche Fruit, Ltd., Yakima, WA

62. Sage Fruit Company, L.L.C., Yakima, WA

63. Smith & Nelson, Inc., Tonasket, WA

64. Stadelman Fruit, L.L.C., Milton-Freewater, OR, and Zillah, WA

65. Stemilt Growers, LLC, Wenatchee, WA

66. Symms Fruit Ranch, Inc., Caldwell, ID

67. The Dalles Fruit Company, LLC, Dallesport, WA

68. Underwood Fruit & Warehouse Co., Bingen, WA

69. Valicoff Fruit Company Inc., Wapato, WA

70. Washington Cherry Growers, Peshastin, WA

71. Washington Fruit & Produce Co., Yakima, WA

72. Western Sweet Cherry Group, LLC, Yakima, WA

73. Whitby Farms, Inc. dba: Farm Boy Fruit Snacks LLC, Mesa, WA

74. WP Packing LLC, Wapato, WA

75. Yakima Fruit & Cold Storage Co., Yakima, WA

76. Zirkle Fruit Company, Selah, WA

The amended Certificate is effective from July 2, 2021, the date on which the application for the Certificate was deemed submitted.

Dated: October 14, 2021.
Joseph Flynn,
Director, Office of Trade and Economic Analysis, International Trade Administration, U.S. Department of Commerce.

[FR Doc. 2021-22761 Filed 10-20-21; 8:45 am]

BILLING CODE 3510-DR-P